DEPARTMENT OF THE INTERIOR

Bureau of Indian Affairs

Renewal of Agency Information Collection for Reindeer in Alaska

AGENCY: Bureau of Indian Affairs, Interior.

ACTION: Notice of submission to OMB.

SUMMARY: In compliance with the Paperwork Reduction Act of 1995, the Bureau of Indian Affairs (BIA) is submitting to the Office of Management and Budget (OMB) a request for renewal for the collection of information for Reindeer in Alaska. The information collection is currently authorized by OMB Control Number 1076-0047, which expires March 30, 2012.

DATES: Interested persons are invited to submit comments on or before April 30, 2012.

ADDRESSES: You may submit comments on the information collection to the Desk Officer for the Department of the Interior at the Office of Management and Budget, by facsimile to (202) 395-5806 or you may send an email to: OIRA_DOCKET@omb.eop.gov. Please send a copy of your comments to Keith Kahklen, Natural Resources Manager, Bureau of Indian Affairs, P.O. Box 25520 [3rd Floor Federal Building], Juneau, Alaska 99802-5520; email: Keith.Kahklen@bia.gov; facsimile (907) 586-7120.

FOR FURTHER INFORMATION CONTACT: Keith Kahklen, (907) 586-7618. You may review the ICR online at http://www.reginfo.gov. Follow the instructions to review Department of the Interior collections under review by OMB.

SUPPLEMENTARY INFORMATION:

I. Abstract

The Bureau of Indian Affairs (BIA) is seeking renewal of the approval for the information collection conducted under 25 CFR part 243, Reindeer in Alaska, which is used to monitor and regulate the possession and use of Alaskan reindeer by non-Natives in Alaska. The information to be provided includes an applicant's name and address, and where an applicant will keep reindeer. The applicant must fill out an application for a permit to get a reindeer for any purpose, and is required to report on the status of reindeer annually or when a change occurs, including changes prior to the date of the annual report. Comments were received in response to the Federal Register notice (76 FR 71600) which did not address the information collection; therefore, we have not changed the collection. This renewal does include changes to the burden hours, reducing the number of respondents from 21 to 18. In addition, we have changed the number of forms associated with this collection from two to four to accurately reflect the forms being used to collect this information.

II. Request for Comments

The BIA requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number. Approval for this collection expires March 30, 2012. Response to the information collection is required to obtain a benefit.

It is our policy to make all comments available to the public for review at the location listed in the ADDRESSES section during the hours of 9 a.m.-5 p.m., Eastern Time, Monday through Friday except for legal holidays. Before including your address, phone number, email address or other personally identifiable information, be advised that your entire comment—including your personally identifiable information—may be made public at any time. While you may request that we withhold your personally identifiable information, we cannot guarantee that we will be able to do so.

III. Data

OMB Control Number: 1076-0047.

Title: Reindeer in Alaska, 25 CFR part 243.

Brief Description of Collection: There are four forms associated with this information collection, Sale Permit for Alaska Reindeer, Sale Report for Alaska Reindeer, Special Use Permit for Alaska Reindeer, and Special Use Reindeer Report, which require information to be provided to obtain or retain a benefit, namely, a permit to obtain a reindeer.

Type of Review: Extension.

Respondents: Non-Natives who wish to possess Alaskan reindeer.

Total Number of Respondents: 18 per year, on average (8 respondents for the Sale Permit for Alaska Reindeer, 8 respondents for the Sale Report Form for Alaska Reindeer, 1 respondent for the Special Use Permit for Alaska Reindeer, and 1 respondent for the Special Use Reindeer Report).

Frequency of Collection: Once a year.

Estimated Time per Response: 5 minutes for the Sale Permit and Report forms and 10 minutes for the Special Use Permit and Report forms, on average.

Estimated Total Annual Burden Hours: 2 hours.

Estimated Total Annual Non-hour Burden: $10.00.

Dated: March 26, 2012.
Alvin Foster,
Assistant Director for Information Resources.

[FR Doc. 2012-7680 Filed 3-29-12; 8:45 am]

BILLING CODE 4310-4J-P